DEPARTMENT OF ENERGY

Federal Energy Regulatory Commission

Combined Notice of Filings

Take notice that the Commission has received the following Natural Gas Pipeline Rate and Refund Report filings:

Filings Instituting Proceedings

Docket Numbers: RP22-897-000.

Applicants: Rover Pipeline LLC.

Description: § 4(d) Rate Filing: Summary of Negotiated Rate Capacity Release Agreements on 5-2-22 to be effective 5/1/2022.

Filed Date: 5/2/22.

Accession Number: 20220502-5103.

Comment Date: 5 p.m. ET 5/16/22.

Docket Numbers: RP22-899-000.

Applicants: DTM Birdsboro Pipeline, LLC.

Description: Compliance filing: Cost and Revenue Study Compliance Filing.

Filed Date: 5/2/22.

Accession Number: 20220502-5246.

Comment Date: 5 p.m. ET 5/16/22.

Docket Numbers: RP22-900-000.

Applicants: Columbia Gas Transmission, LLC.

Description: § 4(d) Rate Filing: Cabot Oil Name Change to Coterra Energy, Inc. Agmt No. 161137-4 to be effective 5/2/2022.

Filed Date: 5/2/22.

Accession Number: 20220502-5249.

Comment Date: 5 p.m. ET 5/16/22.

Docket Numbers: RP22-901-000.

Applicants: NEXUS Gas Transmission, LLC.

Description: § 4(d) Rate Filing: Negotiated Rate—Vitol 860536 to be effective 5/1/2022.

Filed Date: 5/2/22.

Accession Number: 20220502-5250.

Comment Date: 5 p.m. ET 5/16/22.

Docket Numbers: RP22-902-000.

Applicants: Millennium Pipeline Company, LLC.

Description: § 4(d) Rate Filing: Cabot to Coterra Name Change—Agmt 151457 to be effective 5/2/2022.

Filed Date: 5/2/22.

Accession Number: 20220502-5252.

Comment Date: 5 p.m. ET 5/16/22.

Docket Numbers: RP22-903-000.

Applicants: NEXUS Gas Transmission, LLC.

Description: § 4(d) Rate Filing: Negotiated Rate—CNX Gas to Spire Release to be effective 5/1/2022.

Filed Date: 5/2/22.

Accession Number: 20220502-5258.

Comment Date: 5 p.m. ET 5/16/22.

Docket Numbers: RP22-904-000.

Applicants: Texas Eastern Transmission, LP.

Description: § 4(d) Rate Filing: Negotiated Rates—Various Releases eff 5-1-22 to be effective 5/1/2022.

Filed Date: 5/2/22.

Accession Number: 20220502-5266.

Comment Date: 5 p.m. ET 5/16/22.

Docket Numbers: RP22-905-000.

Applicants: Algonquin Gas Transmission, LLC.

Description: § 4(d) Rate Filing: Negotiated Rates—Various Releases eff 5-1-22 to be effective 5/1/2022.

Filed Date: 5/3/22.

Accession Number: 20220503-5014.

Comment Date: 5 p.m. ET 5/16/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2022.
Debbie-Anne A. Reese,
Deputy Secretary.

[FR Doc. 2022-09907 Filed 5-6-22; 8:45 am]

BILLING CODE 6717-01-P